DEPARTMENT OF THE TREASURY

Submission for OMB Review; Comment Request

October 27, 2003.

The Department of Treasury has submitted the following public information collection requirement(s) to OMB for review and clearance under the Paperwork Reduction Act of 1995, Pub. L. 104-13. Copies of the submission(s) may be obtained by calling the Treasury Bureau Clearance Officer listed. Comments regarding this information collection should be addressed to the OMB reviewer listed and to the Treasury Department Clearance Officer, Department of the Treasury, Room 11100, 1750 Pennsylvania Avenue, NW., Washington, DC 20220.

DATES: Written comments should be received on or before December 4, 2003 to be assured of consideration.

Internal Revenue Service (IRS)

OMB Number: 1545-1694.

Revenue Ruling Number: Revenue Ruling 2000-35.

Type of Review: Extension.

Title: Automatic Enrollment in section 403(b) Plans.

Description: Revenue Ruling 2000-35 describes certain criteria that must be met before an employee's compensation can be reduced and contributed to an employer's section 403(b) plan in the absence of an affirmative election by the employee.

Respondents: Not-for-profit institutions.

Estimated Number of Respondents: 100.

Estimated Burden Hours Per Respondent: 1 hour, 45 minutes.

Frequency of Response: On occasion, Annually.

Estimated Total Reporting Burden: 175 hours.

Clearance Officer: R. Joseph Durbala (202) 622-3634, Internal Revenue Service, Room 6411-03, 1111 Constitution Avenue, NW., Washington, DC 20224.

Reviewer: Joseph F. Lackey, Jr. (202) 395-7316, Office of Management and Budget, Room 10235, New Executive Office Building, Washington, DC 20503.

Mary A. Able,
Treasury PRA Clearance Officer.

[FR Doc. 03-27713 Filed 11-3-03; 8:45 am]

BILLING CODE 4830-01-P